DEPARTMENT OF THE TREASURY

United States Mint

Notification of Pricing for United States Mint 2010 Native American $1 Coin 25-Coin Rolls, 2010 Kennedy Half-Dollar Two-Roll Sets, 2010 Kennedy Half-Dollar 200-Coin Bags and 2010 Presidential $1 Coin 25-Coin Rolls

SUMMARY: The United States Mint is announcing the prices of the 2010 Native American $1 Coin 25-Coin Rolls, the 2010 Kennedy Half-Dollar Two-Roll Sets, the 2010 Kennedy Half-Dollar 200-Coin Bags and the 2010 Presidential $1 Coin 25-Coin Rolls.

The 2010 Native American $1 Coin 25-Coin Rolls will be released January 22, 2010, and will be priced at $35.95. Rolls of coins struck at both the United States Mint facilities at Philadelphia and Denver will be available.

The 2010 Kennedy Half-Dollar Two-Roll Sets will be released January 29, 2010, and will be priced at $32.95. This set will contain two rolls of 20 coins each struck at both the United States Mint facilities at Philadelphia and Denver.

The 2010 Kennedy Half-Dollar 200-Coin Bags will be released January 29, 2010, and will be priced at $130.95. This bag contains coins from both the United States Mint facilities at Philadelphia and Denver.

The 2010 Presidential $1 Coin 25-Coin Rolls, honoring Presidents Millard Fillmore, Franklin Pierce, James Buchanan and Abraham Lincoln, will be priced at $35.95 each. Rolls of coins struck at both the United States Mint facilities at Philadelphia and Denver will be available. Release dates for this set will be available on the United States Mint Web site.

FOR FURTHER INFORMATION CONTACT: B. B. Craig, Associate Director for Sales and Marketing; United States Mint; 801 9th Street, NW.; Washington, DC 20220; or call 202-354-7500.

Authority: 31 U.S.C. 5111, 5112, and 9701.

Dated: January 11, 2010.
Edmund C. Moy,
Director, United States Mint.

[FR Doc. 2010-837 Filed 1-15-10; 8:45 am]

BILLING CODE P